DEPARTMENT OF AGRICULTURE

Farm Service Agency

Information Collection Request; Farm Loan Programs, Direct Loan Making

AGENCY: Farm Service Agency, USDA.

ACTION: Notice; request for comments.

SUMMARY: In accordance with the Paperwork Reduction Act of 1995, the Farm Service Agency (FSA) is requesting comments from all interested individuals and organizations on an extension and a revision of a currently approved information collection that supports Direct Loan Making programs. The information collection is in support of 7 CFR part 764, which sets forth the manner for a person may apply to FSA for Direct Loan Assistance. A new form is being added to this request to streamline the loan process.

DATES: We will consider comments that we receive by October 26, 2012.

ADDRESSES: We invite you to submit comments on this notice. In your comments, include the date, volume, and page number of this issue of the Federal Register, the OMB control number and the title of the information collection. You may submit comments by any of the following methods:

Federal eRulemaking Portal: Go to http://www.regulations.gov. Follow the online instructions for submitting comments.

Mail: Michael Moore, Senior Loan Officer, USDA, FSA, LMD, STOP 0522, 1400 Independence Ave. SW., Washington, DC 20250-0522.

Email: michael.moore@wdc.usda.gov.

Fax: (202) 720-6797

You may also send comments to the Desk Officer for Agriculture, Office of Information and Regulatory Affairs, Office of Management and Budget, Washington, DC 20503. Copies of the information collection may be requested by contacting Michael Moore at the above address.

FOR FURTHER INFORMATION CONTACT: Michael Moore, Senior Loan Officer, Farm Service Agency (202) 690-0651. Persons with disabilities who require alternative mean for communication (Braille, large print, audio tape, etc.) should contact the USDA's TARGET Center at (202)720-2600 (Voice and TDD).

SUPPLEMENTARY INFORMATION:

Title: Farm Loan Programs Direct Loan Making.

OMB Control Number: 0560-0237.

Expiration Date of Approval: February 28, 2014.

Type of Request: Revision and extension of a currently approved information collection.

Abstract: FSA's Farm Loan Programs provide loans to family farmers to buy real estate and equipment, and finance agricultural production. Direct Loan Making, as specified in 7 CFR part 764, provides the requirements associated with direct loans. FSA is required to actively supervise its borrowers and provide credit counseling, management advice, and financial guidance. Additionally, FSA must document that credit is not available to the borrower from commercial credit sources in order to maintain eligibility for assistance. Direct loan making information collection requirements include financial and production records of the operation to ensure that cash flow projections are based on actual production history, a loan is adequately secured, the applicant meets established eligibility requirements, and assignments on income and sales can be obtained when appropriate.

FSA is adding a new form to this information collection request. The new form is the FSA-2314 Streamlined Request for Direct OL Assistance. The new form is a streamlined version of a current form that will be used by some respondents. The burden hours have decreased due to lower number of responses by the current participants.

Estimate of Respondent Burden: Public reporting burden for this collection of information is estimated to average 48 minutes per response. The average travel time, which is included in the total burden, is estimated to be 1 hour per respondent.

Respondents: Producers.

Estimated Number of Respondents: 181,922.

Estimated Annual Number of Forms per Person: 3.6.

Estimated Total Annual Responses: 667,543.

Estimated Total Annual Burden Hours: 320,891.

We are requesting comments on all aspects of this information collection to help us to:

(1) Determine whether the continued collection of information is still necessary for the proper performance of the functions of the FSA, including whether the information will have practical utility;

(2) Assess the accuracy of the FSA's estimate of burden including the validity of the methodology and assumptions used;

(3) Enhance the quality, utility and clarity of the information to be collected; and

(4) Minimize the burden of the collection of information on those who are to respond, including through the use of appropriate automated, electronic, mechanical, or other technological collection techniques or other forms of information technology.

All comments received in response to this notice, including names and addresses when provided, will be a matter of public record. Comments will be summarized and included in the submission for the Office of Management and Budget approval.

Signed on August 7, 2012.
Carolyn B. Cooksie,
Acting Administrator, Farm Service Agency.

[FR Doc. 2012-20950 Filed 8-24-12; 8:45 am]

BILLING CODE 3410-05-P